POSTAL SERVICE

39 CFR Part 20

International Service Change—Timor-Leste

AGENCY: Postal Service™.

ACTION: Final rule.

SUMMARY: At the request of the Democratic Republic of Timor-Leste, the Postal Service is adding this country to Mailing Standards of the United States Postal Service, International Mail Manual (IMM®), to reflect Timor-Leste's independence from Indonesia, and its joining the Universal Postal Union as a separate member country.

DATES: Effective date: June 24, 2012.

FOR FURTHER INFORMATION CONTACT: Rick Klutts at 813-877-0372.

SUPPLEMENTARY INFORMATION: The United States Postal Service® gives notice that, on May 7, 2012, the Postal Service filed with the Postal Regulatory Commission a notice of a minor classification change to add the Democratic Republic of Timor-Leste (Timor-Leste) to the Mail Classification Schedule (MCS). The Commission concurred with the notice in its Order No. 1351, issued on May 23, 2012. Documents are available at www.prc.gov, Docket No. MC2012-17. Consequently, the Postal Service will revise IMM sections 213.5, 243.1, 292.452, 293.452, the Index of Countries and Localities, the Country Price Groups and Weight Limits, and the Individual Country Listings to add a listing for the Democratic Republic of Timor-Leste (Timor-Leste).

List of Subjects in 39 CFR Part 20

Foreign relations, International postal services.

Accordingly, 39 CFR part 20 is amended as follows:

PART 20—[AMENDED]

1. The authority citation for 39 CFR Part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM), as follows:

* * * * *

Mailing Standards of the United States Postal Service, International Mail Manual (IMM)

* * * * *

2 Conditions for Mailing

* * * * *

210 Global Express Guaranteed

* * * * *

213 Prices and Postage Payment Methods

* * * * *

213.5 Destinating Countries and Price Groups

* * * * *

Exhibit 213.5

Destinating Countries and Price Groups

[Insert a listing for Timor-Leste to read as follows:]

Country | GXG Price group
* * * * *
Timor-Leste, Democratic Republic of | 6
* * * * *

* * * * *

240 First-Class Mail International

* * * * *

243 Prices and Postage Payment Methods

243.1 Prices

* * * * *

243.13 Destinating Countries and Price Groups

* * * * *

Exhibit 243.13

First-Class Mail International Price Groups

[Insert a listing for Timor-Leste to read as follows:]

Country | Price group
* * * * *
Timor-Leste, Democratic Republic of | 6
* * * * *

* * * * *

290 Commercial Services

* * * * *

292 International Priority Airmail (IPA) Service

* * * * *

292.4 Mail Preparation

* * * * *

292.45 Sortation

* * * * *

292.452 Presorted Mail—Direct Country Bundle Label

* * * * *

Exhibit 292.452

IPA Country Price Groups and Foreign Exchange Offices of Exchange Codes

[Insert a listing for Timor-Leste to read as follows:]

Country labeling name | Foreign office of exchange code | Price group
* * * * * * *
Timor-Leste, Democratic Republic of | DIL | 14
* * * * * * *

* * * * *

293 International Surface Air Lift (ISAL) Service

* * * * *

293.4 Mail Preparation

* * * * *

293.45 Sortation

* * * * *

293.452 Presorted Mail—Direct Country Bundle Label

* * * * *

Exhibit 293.452

ISAL Country Price Groups and Foreign Office of Exchange Codes

[Insert a listing for Timor-Leste to read as follows:]

Country labeling name | Foreign office of exchange code | Price group
* * * * * * *
Timor-Leste, Democratic Republic of | DIL | 14
* * * * * * *

* * * * *

Index of Countries and Localities

* * * * *

[Revise the current listing for “East Timor (Indonesia)” to read “East Timor (Timor-Leste)”. In addition insert a listing for the new country “Timor-Leste”]

* * * * *

Country Price Groups and Weight Limits

* * * * *

[Insert a listing for Timor-Leste to read as follows:]

Country | Global Express Guaranteed: Price group | Global Express Guaranteed: Max. wt. (lbs.) | Express Mail International: Price group | Express Mail International: Max. wt. (lbs.) | Priority Mail International ¹: Price group | Priority Mail International ¹: Max. wt. (lbs.) | First-Class Mail International: Price group | First-Class Mail International: Max wt.² (ozs./lbs.)
* * * * * * *
Timor-Leste, Democratic Republic of | 6 | 70 | n/a | n/a | 6 | 44 | 6 | 3.5/4
* * * * * * *

* * * * *

Individual Country Listings

* * * * *

[Insert an individual country listing in alphabetical order for Timor-Leste, Democratic Republic of, to read as follows:]

* * * * *

Country Conditions for Mailing

Timor-Leste, Democratic Republic of

Prohibitions (130)

No list furnished.

Restrictions

No list furnished.

Observations

None

Customs Forms Required (123)

First-Class Mail International Items and Priority Mail International Flat Rate

Envelopes and Small Flat Rate Priced Boxes:

PS Form 2976 (see 123.61)

Priority Mail International parcels:

PS Form 2976-A inside 2976-E (envelope)

Global Express Guaranteed (210) Price Group 6

Refer to Notice 123, Price List, for the applicable retail, commercial base, or commercial plus price.
Weight Limit: 70 lbs.

Insurance (212.5)

Insured amount not over | Fee | Insured amount not over | Fee
$100 $200 | No Fee $1.00 | For document reconstruction insurance or non-document insurance coverage above $800, add $1.00 per $100 or fraction thereof, up to a maximum of $2,499 per shipment.
$300 | 2.00 |
$400 | 3.00 |
$500 | 4.00 |
$600 | 5.00 |
$700 | 6.00 |
$800 | 7.00 | $2,499 max | $24.00.

Value Limit (212.1)

The maximum value of a GXG shipment to this country is $2,499 or a lesser amount if limited by content or value.

Size Limits (211.22)

The surface area of the address side of the item to be mailed must be large enough to completely contain the Global Express Guaranteed Air Waybill/Shipping Invoice (shipping label), postage, endorsement, and any applicable markings. The shipping label is approximately 5.5 inches high and 9.5 inches long.

Maximum length: 46 inches

Maximum width: 35 inches

Maximum height: 46 inches

Maximum length and girth combined: 108 inches

General Conditions for Mailing

See Publication 141, Global Express Guaranteed Service Guide, for information about areas served in the destination country, allowable contents, packaging and labeling requirements, tracking and tracing, service standards, and other conditions for mailing.

Express Mail International (220)

Not Available

Priority Mail International (230) Price Group 6

Refer to Notice 123, Price List, for the applicable retail, commercial base, or commercial plus price.
Weight Limit: 44 lbs.

Note: Ordinary Priority Mail International includes indemnity at no cost based on weight. (See 230.)

Priority Mail International—Flat Rate

Flat Rate Envelopes or Small Flat Rate Priced Boxes: The maximum weight is 4 pounds. Refer to Notice 123, Price List, for the applicable retail, commercial base, or commercial plus price.

Flat Rate Boxes—Medium and Large: The maximum weight is 20 pounds, or the limit set by the individual country, whichever is less. Refer to Notice 123, Price List, for the retail, commercial base, or commercial plus price.

Insurance (232.92)

NOT Available

Size Limits (231.22)

Maximum length: 42 inches

Maximum length and girth combined: 79 inches

First-Class Mail International (240) Price Group 6

For the prices and maximum weights for letters, large envelopes (flats), packages (small packets), and postcards, see Notice 123, Price List.

Size Limits

Letters: See 241.212

Postcards: See 241.221

Large Envelopes (Flats): See 241.232

Packages (Small Packets): See 241.242 and 241.243

Airmail M-Bags (260)—

Direct Sack to One Addressee Price Group 6

Refer to Notice 123, Price List, for the applicable retail, commercial base, or commercial plus price.
Weight Limit: 66 lbs.

Matter for the Blind (270)

Free when sent as First-Class Mail International, including Priority Mail International Flat Rate Envelopes and Small Flat Rate Priced Boxes. Weight limit: 4 pounds.

Free when sent as Priority Mail International. Weight limit: 15 pounds.

Extra Services

Certificate of Mailing (313)

Individual Pieces | Fee
Individual article (PS Form 3817) | $1.15
Firm mailing books (PS Form 3877), per article listed (minimum 3) | 0.44
Duplicate copy of PS Form 3817 or PS Form 3877 (per page) | 1.15
Bulk Quantities | Fee
First 1,000 pieces (or fraction thereof) | 6.70
Each additional 1,000 pieces (or fraction thereof) | 0.80
Duplicate copy of PS Form 3606 | 1.15

COD and Certified

NOT for International Mail

International Business Reply Service (382)

Fee: Envelopes up to 2 ounces $1.50; Cards $1.00

International Postal Money Order (371)

NOT Available

International Reply Coupons (381)

Fee: $2.20

Registered Mail (330)

Fee: $11.75

Maximum Indemnity: $47.33

Available for First-Class Mail International, including postcards and Flat Rate Envelopes and Small Flat Rate Priced Boxes, and matter for the blind or other physically handicapped persons. Not applicable to M-bags.

Restricted Delivery (350)

Fee: $4.55

Available for Registered Mail with a return receipt.

Endorsements: A remettre en main propre.

Return Receipt (340)

Fee: $2.35

Available for Registered Mail only.

* * * * *

Stanley F. Mires,
Attorney, Legal Policy & Legislative Advice.

[FR Doc. 2012-13637 Filed 6-6-12; 8:45 am]

BILLING CODE 7710-12-P